DEPARTMENT OF ENERGY

Federal Energy Regulatory Commission

[Docket No. CP13-483-000; Docket No. CP13-492-000]

Jordan Cove Energy Project LP; Pacific Connector Gas Pipeline LP; Notice of Availability of the Draft Environmental Impact Statement for the Proposed Jordan Cove Liquefaction and Pacific Connector Pipeline Projects

The staff of the Federal Energy Regulatory Commission (FERC or Commission) has prepared a draft environmental impact statement (EIS) for the projects proposed by Jordan Cove Energy Project LP (Jordan Cove) and Pacific Connector Gas Pipeline LP (Pacific Connector) in the above-referenced dockets.¹ We ² refer to the combined Jordan Cove and Pacific Connector facilities simply as the Project. The Project facilities would be located in Coos, Douglas, Jackson, and Klamath Counties, Oregon.

¹ Jordan Cove filed its application with the FERC on May 21, 2013 in Docket No. CP13-483-000, while Pacific Connector filed its application with the FERC on June 6, 2013 in Docket No. CP13-492-000.

² The pronouns “we,” “us,” or “our” refer to the environmental staff of the FERC's Office of Energy Projects.

Jordan Cove requested Commission authority to construct and operate an LNG export terminal on Coos Bay, that would have the capacity to produce about six million metric tons per annum of LNG, using feed stock of about 0.9 billion cubic feet per day (Bcd/f) of natural gas, for shipment to either Free Trade Agreement (FTA) or non-FTA nations around the Pacific Rim.³ Pacific Connector requested a certificate of public convenience and necessity from the FERC authorizing the construction and operation of a pipeline between the Malin Hub in Klamath County, Oregon and the Jordan Cove terminal on Coos Bay in Coos County, Oregon. The Pacific Connector pipeline would have the design capacity to transport a total about 1.07 Bcf/d of natural gas; with about 0.04 Bcf/d reserved for Northwest Pipeline Company's Grants Pass Lateral through the newly proposed Clark's Branch Delivery Meter Station in Douglas County, Oregon.

³ The U.S. Department of Energy Office of Fossil Energy issued an authorization on December 7, 2011 allowing Jordan Cove to export LNG to FTA nations in DOE/FE Order 3041, and authorization to export to non-FTA nations on March 24, 2014 in DOE/FE Order 3413. Shipment would be by other party LNG vessels.

The draft EIS assesses the potential environmental effects of the construction and operation of the Project in accordance with the requirements of the National Environmental Policy Act (NEPA). The FERC staff concludes that approval of the Project would result in some limited adverse environmental impacts. However, if the Project is constructed and operated in accordance with applicable laws and regulations, and with implementation of Jordan Cove's and Pacific Connector's proposed mitigation measures, and the additional mitigation measures recommended in this EIS, environmental impacts would be substantially reduced.

The United States (U.S.) Department of Agriculture, Forest Service (Forest Service); U.S. Army Corps of Engineers; U.S. Department of Energy; U.S. Environmental Protection Agency; U.S. Department of Homeland Security, Coast Guard; U.S. Department of the Interior, Bureau of Land Management (BLM), Bureau of Reclamation (Reclamation), and Fish and Wildlife Service; and the Pipeline and Hazardous Materials Safety Administration of the U.S. Department of Transportation participated as cooperating agencies in the preparation of the EIS. Cooperating agencies have jurisdiction by law or special expertise with respect to resources potentially affected by the proposal and participate in the NEPA analysis. The cooperating agencies may adopt and use the EIS for their regulatory purposes, and to satisfy compliance with the NEPA and other related federal environmental laws and regulations. Although the cooperating agencies provided input to the conclusions and recommendations presented in the EIS, the agencies will present their own conclusions and recommendations in their respective Records of Decision for the Project.

Actions of the Forest Service, BLM, and Reclamation

The BLM's identified purpose of and need for the proposed action is to respond to a Right-of-Way Grant application submitted by Pacific Connector on February 25, 2013. The Secretary of the Interior has delegated authority to the BLM to grant a Right-of-Way in response to the Pacific Connector application for natural gas transmission on federal lands under the Mineral Leasing Act of 1920. Before issuing the Right-of-Way Grant, the BLM must receive the written concurrence of the other surface managing federal agencies (i.e., Reclamation and Forest Service) in accordance with Title 43 Code of Federal Regulations (CFR) Part 2882.3(i). In addition, there is a need for the BLM and the Forest Service to amend affected Land Management Plans (LMP) to make provision for the Pacific Connector pipeline. Although Reclamation has facilities that would be affected by the Pacific Connector pipeline, it has not identified any agency-specific actions for analysis in the draft EIS.

For the Forest Service, pursuant to 36 CFR 219.17(b) (2012 Planning Rule as amended), the responsible official has elected to use the procedures of the 1982 planning regulation for the proposed amendments to the Rogue River, Umpqua, and Winema National Forest LMPs related to the Pacific Connector pipeline. Under the Forest Service planning regulations (36 CFR 219.10(f); 1982 Rule) there is a need for the Forest Service to determine the significance of the proposed amendments. The proposed amendments are specific to the Pacific Connector Pipeline Project.

The following amendments have been proposed by the BLM and/or the Forest Service as part of the proposed action in FERC's draft EIS:

Amendment of BLM Coos Bay District, Roseburg District, Medford District, and Klamath Falls Resource Area of the Lakeview District Resource Management Plans (RMP) and the Umpqua National Forest, Rogue River National Forest, and Winema National Forest Land and Resource Management Plans (LRMP)

BLM/FS-1—Applicable BLM and Forest Service LMPs would be amended to exempt certain known sites within the area of the proposed Pacific Connector pipeline from the Management Recommendations required by the 2001 “Record of Decision and Standards and Guidelines for Amendments to the Survey and Manage, Protection Buffer, and other Mitigation Measures Standards and Guidelines,” as modified in July 2011.

Amendment of BLM Coos Bay District and Roseburg District RMPs

BLM-1—The Coos Bay District and Roseburg District RMPs would be amended to waive the requirements to protect occupied, suitable, and potential habitat for the marbled murrelet (MAMU), as mapped by the BLM within the proposed Pacific Connector pipeline area. An estimated 75 acres of occupied, suitable, or potential MAMU habitat within the proposed Pacific Connector pipeline area would potentially be affected by the amendment on the Roseburg District.

Amendments of BLM Roseburg District RMP

BLM-2—The Roseburg District RMP would be amended to exempt the Pacific Connector Pipeline Project from the requirement to retain habitat in Known Owl Activity Centers at three locations.

BLM-3—The Roseburg District RMP would be amended to change the designation of approximately 409 acres from the Matrix land allocation to the Late Successional Reserve (LSR) land allocation in Sections 32 and 34, Township (T).29½ South (S), Range (R).7 West (W).; and Section 1, T.30S., R.7W., Willamette Meridian (W.M.) Oregon.

Amendment of BLM Coos Bay District RMP

BLM-4—The Coos Bay District RMP would be amended to change the designation of approximately 387 acres from the Matrix land allocation to the LSR land allocation in Sections 19 and 29, T.28S., R.10W., W.M., Oregon.

Amendments of the Umpqua National Forest LRMP

UNF-1—The Umpqua National Forest LRMP would be amended to change the Standards and Guidelines for Fisheries to allow the removal of effective shading vegetation where perennial streams would be crossed by the Pacific Connector pipeline corridor. This change would potentially affect an estimated three acres of shading vegetation at four perennial stream crossings in the East Fork of Cow Creek from pipeline mileposts (MP) 109.0 to 110.0 in Sections 16 and 21, T.32S., R.2W., W.M., Oregon.

UNF-2—The Umpqua National Forest LRMP would be amended to change prescriptions C2-II and C2-IV and to allow the Pacific Connector pipeline corridor to cross Riparian Areas (i.e., Riparian Reserves) and run parallel to the East Fork of Cow Creek for approximately 0.1 mile between MPs 109.7 and 109.8 in Section 21, T.32S., R.2W.,W. M., Oregon. This change would potentially affect approximately one acre of Riparian Reserve along the East Fork of Cow Creek.

UNF-3—The Umpqua National Forest LRMP would be amended to waive limitations on the area affected by detrimental soil conditions from displacement and compaction within the proposed Pacific Connector pipeline corridor. Standards and Guidelines for Soils requires that not more than 20 percent of the project area have detrimental compaction, displacement, or puddling after completion of a project.

UNF-4—The Umpqua National Forest LRMP would be amended to change the designation of approximately 588 acres from the Matrix land allocation to the LSR 223 land allocation in Sections 7, 18, and 19, T.32S., R.2W., and Sections. 13 and 24, T.32S., R.3W., W.M., Oregon.

Amendments of the Rogue River National Forest LRMP

RRNF-2—The Rogue River National Forest LRMP would be amended to change the Visual Quality Objective (VQO) in the area where the Pacific Connector pipeline corridor would cross Big Elk Road, at MP 161.4 in Section 16, T.37S., R.4E., W.M., Oregon, from Foreground Retention to Foreground Partial Retention and allow more time for the amended VQO to be attained.

RRNF-3—The Rogue River National Forest LRMP would be amended to change the VQO in the vicinity of where the Pacific Connector pipeline corridor would cross the Pacific Crest Trail at MP 168.0 in Section 32, T.37S., R.5E.,W.M., Oregon, from Foreground Partial Retention to Modification and allow more time for the amended VQO to be attained.

RRNF-4—The Rogue River National Forest LRMP would be amended to allow more time to meet the VQO along the Pacific Connector pipeline corridor between MPs 156.3 to 156.8 and 157.2 to 157.5 in Sections 11 and 12, T.37S., R.3E., W.M., Oregon. Standards and Guidelines for Middleground Partial Retention require that VQOs for a given location be achieved within one year of completion of the project. Approximately 0.8 mile or 9 acres of Middleground Partial Retention VQO visible at distances of 0.75 to 5 miles from State Highway 140 would be affected by this amendment.

RRNF-5—The Rogue River National Forest LRMP would be amended to allow the Pacific Connector pipeline corridor to cross lands subject to the Restricted Riparian Management Strategy standards and guidelines. This would potentially affect approximately 2.5 acres associated with one perennial stream crossing of the South Fork of Little Butte Creek at MP 162.45 in Section 16, T.37S., R.4E.,W.M., Oregon.

RRNF-6—The Rogue River National Forest LRMP would be amended to waive limitations on areas affected by detrimental soil conditions from displacement and compaction within the proposed Pacific Connector pipeline corridor in all affected Management Strategies.

RRNR-7—The Rogue River National Forest LRMP would be amended to change the designation of approximately 512 acres from the Matrix land allocation to the LSR land allocation in Sections 32, T.36S., R.3E., W.M., Oregon.

Amendments of the Winema National Forest LRMP

WNF-1—The Winema National Forest LRMP would be amended to change the Standards and Guidelines for Management Area 3 (MA-3) to allow for development of the Pacific Connector pipeline corridor in MA-3 from the Forest Boundary in Section 32, T.37S., R.5E., W.M., Oregon, to Clover Creek Road in Section 4, T.38S, R.5. E, W.M., Oregon. Standards and Guidelines for MA-3 state that it is currently an avoidance area for new utility corridors. This amendment would apply to a portion of the proposed Pacific Connector pipeline corridor that would be approximately 1.5 miles long and occupy approximately 17 acres.

WNF-2—The Winema National Forest LRMP would be amended to allow more time to achieve the VQO where the Pacific Connector pipeline corridor would cross the Dead Indian Memorial Highway at MP 168.8 in Section 33, T.37S., R.5E., W. M., Oregon.

WNF-3—The Winema National Forest LRMP would be amended to allow more time to meet the VQO for Scenic Management, Foreground Partial Retention, where the Pacific Connector pipeline corridor would be adjacent to Clover Creek Road from MPs 170.0 to 175.0 in Sections 2, 3, 4, 11, and 12, T.38S., R.5E.,W.M., Oregon, and Sections 7 and 18, T.38S., R.6E., W.M., Oregon. This amendment would be applicable to approximately 50 acres of the proposed Pacific Connector pipeline corridor.

WNF-4—The Winema National Forest LRMP would be amended to waive restrictions on detrimental soil conditions from displacement and compaction within the proposed Pacific Connector pipeline corridor in all affected management areas.

WNF-5—The Winema National Forest LRMP would be amended to waive restrictions on detrimental soil conditions from displacement and compaction within the proposed Pacific Connector pipeline corridor within Management Area 8, Riparian Area (MA-8). This amendment would be applicable to approximately 0.5 mile or an estimated 9.6 acres of MA-8. Standards and Guidelines for Soil and Water within MA-8 require that not more than 10 percent of the total riparian zone in an activity area be in a detrimental soil condition upon the completion of a project.

Proposed Project Facilities

The EIS addresses the potential environmental effects of the construction and operation of the following major Project facilities:

Jordan Cove

• access channel, marine slip, and LNG vessel and tug boat berths;

• LNG loading platform and cryogenic transfer pipeline;

• two LNG storage tanks (each with a capacity of 160,000 cubic meters);

• four liquefaction trains (each with a capacity of 1.5 MMTPA);

• one-mile-long utility corridor and access road between the LNG terminal and the power plant;

• pipeline gas conditioning plant (consisting of two feed gas and dehydration trains with a combined throughput of 1.0 Bcf/d of natural gas); and

• 420-megawatt South Dunes Power Plant.

Pacific Connector

• 232-mile-long, 36-inch-in-diameter underground welded-steel pipeline extending from the Klamath Compressor Station near Malin, Oregon to the Jordan Cove LNG terminal at Coos Bay;

• 41,000-horsepower Klamath Compressor Station at milepost (MP) 228.1,⁴ in Klamath County, Oregon;

⁴ The total length of the pipeline does not match the MPs, which have been retained from the original route proposed for the LNG import project in Docket No. CP07-441-000. Where realignments have been adopted into the proposed route, the MPs are designated with an “R.” In addition, the MPs are reversed, numbered from west to east, again as a reflection of the original pipeline design. Now, in the LNG export project in Docket No. CP13-492-000, the natural gas would flow west from the Malin Hub to Coos Bay, with the Pacific Connector pipeline beginning at the Klamath Compressor Station at MP 228.1 and terminating at the Jordan Cove Meter Station at MP 1.5R.

• two receipt meter stations (Klamath-Beaver and Klamath-Eagle) at the interconnections with the existing Gas Transmission Northwest and Ruby pipelines within the Klamath Compressor Station;

• Clarks Branch Delivery Meter Station at MP 71.5, in Douglas County, Oregon, at the interconnection with the existing Northwest Pipeline Grants Pass Lateral;

• Jordan Cove Delivery Meter Station at MP 1.5R, in Coos County, Oregon, at the interconnection with the Jordan Cove LNG terminal;

• 17 mainline block valves located within the pipeline right-of-way or co-located at aboveground facilities;

• five pig ⁵ launcher or receiver units, co-located with other aboveground facilities; and

⁵ A pig is an internal pipeline cleaning and inspection tool.

• gas control communication system, including 11 radio towers co-located at other facilities.

Availability of the Draft EIS

The FERC staff mailed copies of the draft EIS to federal, state, and local government representatives and agencies; elected officials; environmental groups and regional non-government organizations; interested Indian tribes; potentially affected landowners; commenters; newspapers and libraries in the project area; and parties to the proceeding. Paper copy versions of this EIS were mailed to those specifically requesting them; all others received a compact disk version. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Commenting on the Draft EIS

Any person wishing to comment on the draft EIS may do so. To ensure consideration of your comments on the Project in the final EIS, it is important that the Commission receive your comments on or before February 13, 2015.

For your convenience, there are four methods you can use to submit your comments to the Commission. In all instances, please reference the Project docket numbers (CP13-483-000 and CP13-492-000) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

(4) In lieu of sending written or electronic comments, the Commission invites you to attend one of the public meetings its staff will conduct in the project area to receive comments on the draft EIS. We encourage interested groups and individuals to attend and present oral comments on the draft EIS. Transcripts of the meetings will be available for review in eLibrary under the Project docket numbers. All meetings will begin at 6:00 p.m. and are scheduled as follows:

Date | Location
Monday, December 8, 2014 | Southwest Oregon Community College, Hales Performing Arts Center, 1988 Newmark Ave., Coos Bay, OR 97420, 541-888-7250.
Tuesday, December 9, 2014 | Umpqua Community College, Lang Center, 1140 Umpqua College Rd., Roseburg, OR 97470, 541-440-4705.
Wednesday, December 10, 2014 | Seven Feathers Casino-Hotel & Convention Center, 146 Chief Miwaleta Ln., Canyonville, OR 97417, 800-548-8461 ext. 1218.
Thursday, December 11, 2014 | Central Medford High School, 815 S. Oakdale Ave., Medford, OR 97501, 541-842-3669, 541-842-3680.
Friday, December 12, 2014 | Oregon Institute of Technology, College Union Auditorium, 3201 Campus Dr., Klamath Falls, OR 97601, 541-895-1032.
Saturday, December 13, 2014 | Malin Community Hall, 2307 Front St., Malin, OR 97632, 541-723-4141.

Interventions

Any person seeking to become a party to the proceeding must file a motion to intervene pursuant to Rule 214 of the Commission's Rules of Practice and Procedures (18 CFR Part 385.214).⁶ Only intervenors have the right to seek rehearing of the Commission's decision. The Commission grants affected landowners and others with environmental concerns intervenor status upon showing good cause by stating that they have a clear and direct interest in these proceedings which no other party can adequately represent. Simply filing environmental comments will not give you intervenor status, but you do not need intervenor status to have your comments considered.

⁶ See the previous discussion on the methods for filing comments.

Questions

Additional information about the project is available from the Commission's Office of External Affairs, at (866) 208-FERC, or on the FERC Web site (www.ferc.gov) using the eLibrary link. Click on the eLibrary link, click on “General Search,” and enter the docket number excluding the last three digits in the Docket Number field (i.e., CP13-483 and CP13-492). Be sure you have selected an appropriate date range. For assistance, please contact FERC Online Support at FercOnline Support@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: November 7, 2014.
Kimberly D. Bose,
Secretary.

[FR Doc. 2014-27053 Filed 11-14-14; 8:45 am]

BILLING CODE 6717-01-P